SMALL BUSINESS ADMINISTRATION

Data Collection Available for Public Comments and Recommendations

ACTION: 60-Day notice and request for comments. 8(a) Business Development Program.

SUMMARY: In accordance with the Paperwork Reduction Act of 1995, this notice announces the Small Business Administration's intentions to request approval on a new and/or currently approved information collection.

DATES: Submit comments on or before April 27, 2012.

ADDRESSES: Send all comments regarding whether this information collection is necessary for the proper performance of the function of the agency, whether the burden estimates are accurate, and if there are ways to minimize the estimated burden and enhance the quality of the collection, to Sandra Johnston, Program Analyst, Office of Financial Assistance, Small Business Administration, 409 3rd Street, 7th Floor, Washington, DC 20416.

FOR FURTHER INFORMATION CONTACT: Sandra Johnston, Program Analyst, 202-205-7528, Sandra.johnston@sba.gov Curtis B. Rich, Management Analyst, 202-205-7030, curtis.rich@sba.gov.

SUPPLEMENTARY INFORMATION: The servicing agent agreement is executed by the borrower, certified development company and the loan servicing agent. The agreement is primarily used to certify use of loan proceeds, appoint a servicing agent and acknowledge the imposition of various fees.

Title: “Servicing Agent Agreement”.

Description of Respondents: Certified Development Companies and SBA Borrowers.

Form Number: N/A.

Annual Responses: 7,830.

Annual Burden: 7,830.

Jacqueline White,
Chief, Administrative Information Branch.

[FR Doc. 2012-4388 Filed 2-24-12; 8:45 am]

BILLING CODE ;P